DEPARTMENT OF AGRICULTURE

Agricultural Marketing Service

7 CFR Part 983

[Doc. No. AMS-SC-22-0040]

Pistachios Grown in California, Arizona, and New Mexico; Continuance Referendum

AGENCY: Agricultural Marketing Service, USDA.

ACTION: Referendum order.

SUMMARY: This document directs that a referendum be conducted among eligible pistachio producers to determine whether they favor continuance of the marketing order regulating the handling of pistachios grown in California, Arizona, and New Mexico.

DATES: The referendum will be conducted from October 31 through November 18, 2022. To vote in this referendum, producers must have produced pistachios within the designated production area during the period September 1, 2021, through August 31, 2022.

ADDRESSES: Copies of the marketing order may be obtained from the office of the referendum agents at 2202 Monterey Street, Suite 102B, Fresno, California 93721-3129; Telephone: (559) 538-1670; or the Office of the Docket Clerk, Market Development Division, Specialty Crops Program, AMS, USDA, 1400 Independence Avenue SW, STOP 0237, Washington, DC 20250-0237; Telephone: (202) 720-2491; or on the internet https://www.regulations.gov.

FOR FURTHER INFORMATION CONTACT: Peter R. Sommers or Gary D. Olson, Western Region Branch, Market Development Division, Specialty Crops Program, AMS, USDA, 2202 Monterey Street, Suite 102B, Fresno, California 93721-3129; Telephone: (559) 538-1670, or Email: PeterR.Sommers@usda.gov or GaryD.Olson@usda.gov.

SUPPLEMENTARY INFORMATION: Pursuant to Marketing Agreement and Order No. 983, as amended (7 CFR part 983), hereinafter referred to as the “Order,” and the applicable provisions of the Agricultural Marketing Agreement Act of 1937, as amended (7 U.S.C. 601-674), hereinafter referred to as the “Act,” it is hereby directed that a referendum be conducted to ascertain whether continuance of the Order is favored by the producers. The referendum shall be conducted from October 31 to November 18, 2022, among eligible pistachio producers in the production area. Only pistachio producers, who were engaged in the production of pistachios during the period of September 1, 2021, through August 31, 2022, may participate in the continuance referendum.

USDA has determined that continuance referenda are an effective means for determining whether producers favor continuation of marketing order programs. The Order will be deemed as favored by the producers if at least two-thirds of producers voting in the referendum, or producers of at least two-thirds of the volume represented in the referendum, approve its continuance. In evaluating the merits of continuance versus termination, USDA will not exclusively consider the results of the continuance referendum. USDA will also consider all other relevant information regarding the operation of the Order and the relative benefits and disadvantages to producers, handlers, and consumers in order to determine whether continued operation of the Order would tend to effectuate the declared policy of the Act.

In accordance with the Paperwork Reduction Act of 1995 (44 U.S.C. Chapter 35), the ballots used in the referendum have been approved by the Office of Management and Budget (OMB) and have been assigned OMB No. 0581-0215 Pistachios Grown in California, Arizona, and New Mexico. It has been estimated that it will take an average of 20 minutes for each of the approximately 1,624 producers of California, Arizona, and New Mexico pistachios to cast a ballot. Participation is voluntary. Ballots postmarked after November 18, 2022, will not be included in the vote tabulation.

Peter R. Sommers and Gary D. Olson of the Western Region Branch, Market Development Division, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR part 900.400-900.407).

Ballots will be mailed to all producers of record and may also be obtained from the referendum agents or their appointees.

List of Subjects in 7 CFR Part 983

Marketing agreements, Nuts, Reporting and recordkeeping requirements.

Authority: 7 U.S.C. 601-674.

Erin Morris,
Associate Administrator, Agricultural Marketing Service.

[FR Doc. 2022-17825 Filed 8-18-22; 8:45 am]

BILLING CODE P